DEPARTMENT OF HEALTH AND HUMAN SERVICES

Centers for Disease Control and Prevention

Breast and Cervical Cancer Early Detection and Control Advisory Committee Meeting Teleconference

In accordance with section 10(a)(2) of the Federal Advisory Committee Act (Pub. L. 92-463), the Centers for Disease Control and Prevention (CDC) announces the following Federal Advisory Committee meeting.

Name: Breast and Cervical Cancer Early Detection and Control Advisory Committee (BCCEDCAC) Teleconference.

Date and Time: July 15, 2002, 2 p.m.-3:30 p.m., E.T.

Place: Conference call will originate at the Centers for Disease Control and Prevention in Atlanta, Georgia. Please see “Supplementary Information” for details on accessing the teleconference.

Status: This meeting is open to the public; teleconference access limited only by availability of telephone ports.

Purpose: This committee is charged with providing advice and guidance to the Secretary, Health and Human Services, and the Director, CDC, regarding the need for early detection and control of breast and cervical cancer and to evaluate the Department's current breast and cervical cancer early detection and control activities.

Matters to be Discussed: The discussion will primarily focus on termination of the committee.

Supplementary Information: This conference call is scheduled for 2 p.m. Eastern Time. To access the teleconference, you must dial (404) 639-3277. To be connected to the call, you will need to provide the passcode “523080” and Leader's name “Kevin Brady.”

Contact Person for Additional Information: Mr. Kevin Brady, Deputy Director, Division of Cancer Prevention and Control, National Center for Chronic Disease Prevention and Health Promotion, CDC, 4770 Buford Highway, NE, M/S: K-52, Atlanta, Georgia 30341-3724, telephone (770) 488-4343.

The Director, Management Analysis and Services Office, has been delegated the authority to sign Federal Register notices pertaining to announcements of meetings and other committee management activities for both the Centers for Disease Control and Prevention and the Agency for Toxic Substances and Disease Registry.

Dated: June 18, 2002.
John Burckhardt,
Acting Director, Management Analysis and Services Office, Centers for Disease Control and Prevention.

[FR Doc. 02-15827 Filed 6-21-02; 8:45 am]

BILLING CODE 4163-18-P